DEPARTMENT OF HEALTH AND HUMAN SERVICES

National Institute of Health

Public Health Service

The National Toxicology Program (NTP), National Institute of Environmental Health Sciences (NIEHS), Center for the Evaluation of Risks to Human Reproduction (CERHR) (1) announces an upcoming evaluation of 1-bromopropane (CASRN: 106-94-5) and 2-bromopropane (CASRN: 75-26-3), (2) solicits the nomination of individuals qualified to serve on an Expert Panel, and (3) requests public input on these chemicals.

Background

The NTP and the NIEHS established the NTP CERHR (Federal Register, Vol. 63, No. 239, page 68782) in June 1998. The purpose of the CERHR is to provide scientifically-based, uniform assessments of the potential for adverse effects on reproduction and development caused by agents to which humans may be exposed. A scientific expert panel reviews the scientific evidence on the chemical(s) under review, receives public comments, and then prepares a report on the chemical(s). The Expert Panel Report is made available for review and public comment on the CERHR web site (http://cerhr.niehs.nih.gov) and upon request from Dr. Michael Shelby, CERHR Director (see address below). Following the expert panel evaluation, the NTP staff prepares the NTP Center Report on the evaluated chemical(s). This report integrates background information on the chemical(s), findings of the expert panel, and a discussion of any pertinent studies published after the expert panel's evaluation. The NTP Center Report includes all public comments received on the Expert Panel Report. The NTP Center Report is made publicly available and is distributed to interested stakeholders and appropriate regulatory and research agencies. A summary of the complete review process was recently published in the Federal Register (Vol. 66, No. 136, pages 37047-37048) and can be found on the CERHR web site. A hardcopy may be requested from CERHR at the address given below.

Evaluation of 1- and 2-Bromopropane

1-Bromopropane (CASRN: 106-94-5) and 2-bromopropane (CASRN: 75-26-3) have been selected for the third CERHR expert panel evaluation. 1-Bromopropane is used as a spray adhesive; as a solvent for fats, waxes, or resins; and as an intermediate in the synthesis of other compounds. 2-Bromopropane is used in the synthesis of pharmaceuticals, dyes, and other compounds and is present as a contaminant in 1-bromopropane. Bromopropanes are being considered as replacement chemicals for hydrochlorofluorocarbons and chlorinated solvents. The scientific database on these chemicals includes studies on neurotoxicity, reproductive toxicity, and occupational exposures. 2-Bromopropane is reported to be a reproductive toxicant in humans. It is anticipated that the expert panel evaluation of 1- and 2-bromopropane will occur December 5-7, 2001, in Alexandria, VA.

An expert panel of approximately 12 scientists, selected for their scientific expertise in various aspects of reproductive and developmental toxicology and other relevant areas of science, will conduct these evaluations. The expert panel meeting will be open to the public with an opportunity scheduled for oral public comment.

Request for Public Input

(1) The CERHR invites input from the public on 1- and 2-bromopropane including toxicology information from completed and ongoing studies, information on planned studies, as well as current production data, human exposure information, use patterns, and environmental occurrence. Information and comments should be forwarded to Dr. Shelby at the address given below. Information and comments received by September 27, 2001 will be made available to CERHR staff and the Expert Panel and considered in the evaluation.

(2) The CERHR also invites nominations of qualified scientists to serve on the Bromopropane Expert Panel. Panelists are primarily drawn from the CERHR Expert Registry and/or the nomination of other scientists who meet the criteria for listing in that registry. Criteria for listing in the CERHR Expert Registry listing include: formal academic training and experience in a relevant scientific field, publications in peer-reviewed journals, membership in relevant professional societies, certification by an appropriate scientific Board or other entities, and participation in similar committee activities. Scientists on the expert panel will represent a wide range of expertise including developmental toxicology, reproductive toxicology, epidemiology, general toxicology, neurotoxicology, pharmacokinetics, exposure assessment, and biostatistics. Nominations received by September 27, 2001, publication will be considered for the Bromopropane Expert Panel and/or inclusion in the CERHR Expert Registry. Nominations should be forwarded to Dr. Shelby at the address given below.

Request for Nomination of Chemicals for Future CERHR Reviews

The CERHR welcomes the nomination of chemicals for possible future evaluation. The nominations can be made through the CERHR's web site (http://cerhr.niehs.nih.gov) or by contacting Dr. Shelby at the address given below.

Michael D. Shelby, Ph.D., Director, NTP Center for the Evaluation of Risks to Human Reproduction, 79 T.W. Alexander Drive, Building. 4401, Room 102, P.O. Box 12233, EC-32, Research Triangle Park, NC 27709 Phone: (919) 541-3455, Fax: (919) 316-4511, shelby@niehs.nih.gov.

Dated: August 2, 2001.
Samuel H. Wilson,
Deputy Director, National Institute of Environmental Health Sciences.

[FR Doc. 01-20190 Filed 8-10-01; 8:45 am]

BILLING CODE 4140-01-P